DEPARTMENT OF LABOR

Employment and Training Administration

Solicitation of nominations for the Native American Employment and Training Council

AGENCY: Employment and Training Administration, Department of Labor.

ACTION: Solicitation of nominations for the Native American Employment and Training Council (Council).

SUMMARY: The Department of Labor (Department) is soliciting nominations for appointment to the Council for consideration by the Secretary of Labor. The Secretary invites federally recognized tribes, Native American non-profit organizations, and Alaska Native and Native Hawaiian organizations to submit nominations and announces procedures for those nominations.

DATES: Nominations for individuals to serve on the Council must be submitted (postmarked if sending by mail; electronically or received if hand-delivered) by April 29, 2019.

ADDRESSES: Submit nominations and supporting materials described in this Federal Register Notice by any one of the following methods:

Electronically: Submit nominations, including attachments, by email using the following address: NAETC@dol.gov (Use subject line “Nomination—Native American Employment and Training Council).

Mail, express delivery, hand delivery, messenger, or courier service: Submit one copy of the nominations and supporting materials to the following address: Native American Employment and Training Council Nominations, Division of Indian and Native American Programs, U.S. Department of Labor, 200 Constitution Ave. NW, Room S-4209, Washington, DC 20210. Deliveries by hand, express mail, messenger, and courier service are accepted by the Division of Indian and Native American Programs during the hours of 9:00 a.m.-5:00 p.m. Eastern Daylight Time, Monday through Friday. Due to security-related procedures, submissions by regular mail may experience significant delays.

Facsimile: The Department will not accept nominations submitted by fax.

FOR FURTHER INFORMATION CONTACT: Athena Brown, Division of Indian and Native American Programs, (address above); by phone at (202) 693-3737 or by email at brown.athena@dol.gov or NAETC@dol.gov.

SUPPLEMENTARY INFORMATION:

I. Background and Authority

The Council is a non-discretionary committee authorized under WIOA with the purpose of advising the Secretary on the operation and administration of the WIOA Section 166 Indian and Native American Employment and Training programs. The Charter provides for the Council to consist of no less than 15 but no more than 20 members, appointed by the Secretary, who are representatives of Indian tribes, tribal organizations, Alaska Native entities, Indian-controlled organizations serving Indians, and Native Hawaiian organizations. Members of the Council shall serve at the pleasure of the Secretary for a two-year term designated by the Secretary and without compensation except that members shall be allowed travel expenses, including per diem, while away from their homes or regular places of business in the performance of services for the Council.

II. Structure

Except as otherwise required by law, the Council membership will be consistent with the applicable Federal Advisory Committee Act (FACA) regulations as follows: (a) Membership on the Council will be fairly balanced; (b) members will come from a cross-section of those directly affected, interested, and qualified as appropriate to the nature and functions of the Council; and (c) the composition of the Council depends upon several factors, including: (i) The Council's mission; (ii) the geographic, ethnic, social, economic, or scientific impact of the advisory committee's recommendations; (iii) the types of specific perspectives required; (iv) the need to obtain divergent points of view on the issues before the Council, such as those of consumers, technical experts, the public at-large, academia, business, or other sectors; and (v) the relevance of state, local, and tribal governments to the development of the Council's recommendations.

Twelve appointments expired on May 11, 2018, and five expired on November 14, 2018. The Department is consolidating the nomination process for both appointment expiration dates in one announcement; however, the Council's two-year terms will remain the same. To the extent permitted by FACA and other laws, the Council membership should also be consistent with achieving the greatest impact, scope, and credibility among diverse stakeholders. The diversity in such membership includes but is not limited to: Race, gender, disability, sexual orientation, and gender identity.

III. Nomination Process

The Secretary seeks nominations from representatives of tribal governments and American Indian, Alaska Native, and Native Hawaiian organizations who have expertise in the areas of workforce development, secondary and post-secondary education, healthcare, human services, veteran services, and business and economic development to join the Council and provide expertise on the WIOA Section 166 Indian and Native American Programs. The Charter requires that the Council, to the extent practicable, shall represent all geographic areas of the United States with a substantial Indian, Alaska Native, or Native Hawaiian population. Accordingly, the Department seeks representatives from each of the six ETA regions (see ETA regions located at: https://www.doleta.gov/regions), as well as representatives from Hawaii, Alaska, Oklahoma, and Other Disciplines.

Appointments for the following 12 members expired on May 11, 2018:

Mr. Darrell Waldron, Region I, Boston (includes CT, MA, ME, NH, NJ, NY, PR, RI, VI and VT);

Mr. Elkton Richardson and Mr. Curtis Osceola, Region III, Atlanta (includes AL, FL, GA, KY, MS, NC, SC, and TN);

Ms. Kimberly Carroll, Region IV, Dallas (includes AR, CO, LA, MT, ND, NM, OK, SD, TX, UT, and WY);

Ms. Christine Campbell, Region V, Chicago (includes IA, IL, IN, KS, MI, MN, MO, NE, OH, and WI);

Mr. Gary Rickard, Ms. Roselyn Shirley, and Mr. Jacob Bernal, Region VI, San Francisco (includes AK, AZ, CA, GU, HI, ID, NV, OR, and WA);

Mr. Michael Tucker, Region VI, Alaska Native representative; and

Dr. Cynthia Lindquist, Mr. Jason Smith, and Mr. Dave Archambault II, Other Disciplines representatives.

All individuals listed above are eligible for nomination.

Appointments for the following five members expired on November 14, 2018:

Chief G. Anne Richardson, Region II, Philadelphia (includes DE, MD, PA, WV and VA);

Mr. Erwin L. Pahmahmie, Jr., Region IV, Dallas (includes AR, CO, LA, MT, ND, NM, OK, SD, TX, UT, and WY);

Mr. Daryl Legg, Region IV, Oklahoma representative;

Ms. Winona Whitman, Region VI, Native Hawaiian representative; and

Chairman Michael Hunter, Other Disciplines.

All members listed above are eligible for nomination.

Grantee representatives from the six ETA regions (including those designated as Pub. L. 102-477 grantees) may only submit nominations for individuals residing in their ETA region. Grantees from any ETA region may nominate individuals for Other Disciplines who reside in any ETA region. In order to meet the FACA requirement of a fairly balanced membership, individuals will also be nominated to represent Alaska Natives and Native Hawaiians in Region VI in addition to nominations for Region VI. Due to the number of tribes and the concentration of American Indians in Oklahoma, individuals will be nominated to represent the State of Oklahoma in addition to nominations for Region IV.

In submitting nominations, please consider the nominee's availability to attend and actively participate in Council meetings (a minimum of two meetings annually), willingness to serve on Council workgroups, and ability to provide feedback to the grantee community. Communication between the Council member and his or her constituency is essential to the partnership between the Department and the Indian and Native American communities. Nominations must include:

• Whether the nomination is for the May 11, 2018, vacancy or the November 14, 2018, vacancy;

• Nomination category (e.g., ETA Region, Native Hawaiian representative, Alaska Native representative, Oklahoma representative, or representative for Other Disciplines). Those nominating a regional representative must reside in the same region as the nominee;

• Name;

• Title;

• Organization;

• Address;

• City, State, and Zip Code;

• Email;

• Phone Number;

• If nominated for Other Disciplines, specify Discipline;

• Nominator's Name;

• Organization;

• City, State;

• Signature and Date;

• Verification that the nominee formally accepted the nomination, and, for purposes of vetting, the nominee's date of birth is required;

• Signature and Date;

• A copy of the biographical information and resume of the nominee; and

• A cover letter that provides the reason(s) for nominating the individual and their particular expertise in the areas of workforce development, secondary and post-secondary education, healthcare, human services, veteran services, or business and economic development. In addition, the cover letter must state that the nomination is in response to this Federal Register Notice and that the nominee (if someone other than oneself) has accepted the nomination. We have provided an optional form for convenience. Download at https://doleta.gov/dinap/pdf/NAETC_Nomination_Form.pdf.

Authority: Pursuant to 29 U.S.C. 3221(i)(4), Section 166(i)(4) of the Workforce Innovation and Opportunity Act (WIOA), Pub. L. 113-128; Federal Advisory Committee Act (FACA) as amended 5 U.S.C. App.

Molly E. Conway,
Acting Assistant Secretary for Employment and Training Administration, Labor.

[FR Doc. 2019-05931 Filed 3-27-19; 8:45 am]

BILLING CODE 4501-FR-P